DEPARTMENT OF THE INTERIOR

Bureau of Land Management

[LLNM004410.L16100000.DO0000.LXSSG0690000]

Notice of Intent To Prepare a Resource Management Plan for the Oklahoma, Kansas, and Texas Planning Area and an Associated Environmental Impact Statement

AGENCIES: Bureau of Land Management, Interior.

ACTION: Notice of Intent.

SUMMARY: In compliance with the National Environmental Policy Act of 1969, as amended (NEPA), and the Federal Land Policy and Management Act of 1976, as amended (FLPMA), the Bureau of Land Management (BLM) Oklahoma Field Office, Tulsa, Oklahoma, intends to prepare a Resource Management Plan (RMP) with an associated Environmental Impact Statement (EIS) for the Oklahoma, Kansas, and Texas planning area. This notice announces the beginning of the scoping process to solicit public comments and identify issues. The RMP will replace the existing Oklahoma RMP (1994), the Kansas RMP (1991), and the Texas RMP (1996), and the associated EIS for the RMP will also analyze Bureau of Indian Affairs (BIA) management decisions for lands and minerals managed by the BIA in the three states.

DATES: This notice initiates the public scoping process for the RMP with an associated EIS. Comments on issues may be submitted in writing until August 26, 2013]. The dates and locations of any scoping meetings will be announced at least 15 days in advance through local media, newspapers, and the BLM Web site at http://www.blm.gov/nm/oktrmp. In order to be included in the Draft EIS, all comments must be received prior to the close of the 30-day scoping period or 15 days after the last public meeting, whichever is later. The BLM will provide additional opportunities for public participation upon publication of the Draft EIS.

ADDRESSES: You may submit comments on issues and planning criteria related to the Oklahoma/Kansas/Texas RMP by any of the following methods:

• Web site: http://www.blm.gov/nm/oktrmp.

• Email: BLM_NM_OKTRMP@blm.gov.

• Fax: 918-621-4130; Attention: Laurence Levesque.

• Mail: Oklahoma Field Office, BLM, 7906 East 33rd Street, Suite 101, Tulsa, OK 74145; Attention: RMP Comments.

Documents pertinent to this proposal may be examined at the Oklahoma Field Office.

FOR FURTHER INFORMATION CONTACT: Laurence Levesque, Planning and Environmental Specialist; telephone 918-621-4136; address 7906 East 33rd Street, Suite 101, Tulsa, OK 74145; email BLM_NM_OKTRMP@blm.gov. Contact Mr. Levesque to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Oklahoma Field Office, Tulsa, Oklahoma, intends to prepare an RMP with an associated EIS for the Oklahoma, Kansas, and Texas planning area RMP; announces the beginning of the scoping process; and seeks public input on issues and planning criteria. The EIS for the RMP will also analyze decisions for Indian mineral interests administered by the BIA Eastern Oklahoma and Southern Plains Regional Offices. The BLM will be the lead agency in the RMP development effort, and the BIA will participate as a cooperating agency and sign a separate Record of Decision for management decisions for Indian mineral interests administered by the BIA Eastern Oklahoma and Southern Plains Regional Offices.

The planning area encompasses about 100,000 acres of public land; 5,863,000 acres of Federal mineral interests; and 670,000 acres of Indian mineral interests. The BLM and the BIA will work collaboratively with interested parties to identify the management decisions that are best suited to local, regional, and national needs and concerns. The purpose of the public scoping process is to determine relevant issues that will influence the scope of the environmental analysis, including alternatives, and guide the planning process.

Preliminary issues for the planning area have been identified by the BLM and BIA personnel; Federal, State, and local agencies; and other stakeholders. The issues include:

1. How should the BLM and the BIA facilitate energy development, both renewable and non-renewable, while allowing for multiple uses and appropriate protection of public lands and resources?

2. What management actions, best management practices, and mitigation measures are necessary to protect or enhance resources, such as, visual, air quality, groundwater, watersheds and riparian areas, recreational areas, vegetation, soils, cultural sites, special designations, wildlife and special status species habitat, and rangeland health?

3. Where are helium resources located and how can these reserves, as well as the Federal Helium Plant, be best managed for the public?

4. How should the BLM address long-term grassland pasture facilities for wild horses and burros transferred from western rangelands?

5. Which public lands should be identified for retention, proposed for withdrawal, disposal, or acquisition to facilitate more efficient land management?

6. Which public lands should be identified as open, limited, or closed to motorized vehicle travel to meet resource and recreational demands?

Preliminary planning criteria include:

1. The RMP will be in compliance with FLPMA, NEPA, and all other applicable laws and regulations.

2. Land use decisions in the RMP will apply to the surface and subsurface estate managed by the BLM and the BIA. The BLM will not make any recommendations or decisions that affect Federal mineral estate beyond its explicit authority under applicable laws and regulations.

3. Public participation and collaboration will be an integral part of the planning process.

4. The BLM and the BIA will work cooperatively and collaboratively with cooperating agencies and all other interested groups, agencies, and individuals.

5. The RMP will incorporate, where applicable, management decisions brought forward from existing planning documents.

6. Identification of any lands for further consideration for coal leasing will be limited to any areas with development potential.

7. Final title analysis has not yet been conducted for all Federal mineral ownership. Although the BLM will plan for these tracts, it will not lease, transfer or otherwise authorize any action(s) prior to verification of title for the properties.

You may submit comments on issues and planning criteria in writing to the BLM at any public scoping meeting, or by using one of the methods listed in the “ADDRESSES” section above. To be most helpful, you should submit comments by the close of the 30-day scoping period or within 15 days after the last public meeting, whichever is later. Before including your address, phone number, email address, or other personal identifying information in your comment, you should be aware that your entire comment—including your personal identifying information—may be made publicly available at any time. While you can ask us in your comment to withhold your personal identifying information from public review, we cannot guarantee that we will be able to do so. The BLM will evaluate identified issues and will place them into one of three categories:

1. Issues to be resolved in the plan;

2. Issues to be resolved through policy or administrative action; or

3. Issues beyond the scope of this plan.

The BLM will provide an explanation in the Draft RMP/EIS as to why an issue was placed in category two or three. The public is also encouraged to help identify any management questions and concerns that should be addressed in the plan. The BLM will work collaboratively with interested parties to identify the management decisions that are best suited to local, regional, and national needs and concerns.

The BLM will use NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

The BLM will use an interdisciplinary approach to develop the plan in order to consider the variety of resource issues and concerns identified. Specialists with expertise in the following disciplines will be involved in the planning process: minerals and geology, archaeology, wildlife and fisheries, lands and realty, hydrology, soils, livestock grazing, recreation, sociology, and economics.

Authority: 40 CFR 1501.7; 43 CFR 1610.2

Jesse J. Juen,
State Director.

[FR Doc. 2013-17981 Filed 7-25-13; 8:45 am]

BILLING CODE 4310-FB-P